DEPARTMENT OF THE INTERIOR

National Park Service

Notice of Inventory Completion: U.S. Department of the Interior, National Park Service, Channel Islands National Park, Ventura, CA and Fowler Museum at UCLA, Los Angeles, CA

AGENCY: National Park Service, Interior.

ACTION: Notice.

Notice is here given in accordance with the Native American Graves Protection and Repatriation Act (NAGPRA), 25 U.S.C. 3003, of the completion of an inventory of human remains and associated funerary objects in the possession of the Fowler Museum at UCLA, Los Angeles, CA and in the control of the U.S. Department of the Interior, National Park Service, Channel Islands National Park, Ventura, CA. The human remains and associated funerary objects were removed from an archeological site in Channel Islands National Park, Ventura County, CA.

This notice is published as part of the National Park Service's administrative responsibilities under NAGPRA, 25 U.S.C. 3003 (d)(3). The determinations in this notice are the sole responsibility of the superintendent, Channel Islands National Park.

A detailed assessment of the human remains and associated funerary objects was made by the Fowler Museum at UCLA and Channel Islands National Park professional staff in consultation with representatives of the Santa Ynez Band of Chumash Mission Indians of the Santa Ynez Reservation, California.

In 1958, human remains representing a minimum of three individuals were removed from the Le Dreau Cove Site on the south end of West Anacapa Island in Ventura County, CA, during legally authorized excavations by Marshall McKusick and Charles Rozaire of the University of California Archeological Survey and the UCLA Department of Anthropology, as a part of the Channel Islands Research Project. No known individuals were identified. The six associated funerary objects are two shell fragments, two animal bone fragments, and two stone fragments.

The human remains and associated funerary objects at the Le Dreau Cove Site date to a Late Period prehistoric population and culture that is regarded to be ancestral to historic and contemporary Chumash Indians. The prehistoric group is represented archeologically by the “Canalino Horizon.”

Most archeologists believe that changes in Chumash material culture reflect evolving ecological adaptations and related changes in social organization of the same populations, and do not represent population movements. The same range of artifact types and materials was used from the early pre-contact period until historic times. Native consultants explicitly state that population mixing would not alter the continuity of the shared group identities of people associated with specific locales. Therefore, continuity through time can be traced for Le Dreau Cove with present-day Chumash groups. In addition, Le Dreau Cove is located within the historically documented aboriginal territory of the Santa Ynez Band of Chumash Mission Indians of the Santa Ynez Reservation, California.

Officials of Channel Islands National Park have determined that, pursuant to 25 U.S.C. 3001 (9-10), the human remains described above represent the physical remains of three individuals of Native American ancestry. Officials of Channel Islands National Park also have determined that, pursuant to 25 U.S.C. 3001 (3)(A), the six objects described above are reasonably believed to have been placed with or near individual human remains at the time of death or later as part of the death rite or ceremony. Lastly, officials of Channel Islands National Park have determined that, pursuant to 25 U.S.C. 3001 (2), there is a relationship of shared group identity that can be reasonably traced between the Native American human remains and associated funerary objects and the Santa Ynez Band of Chumash Mission Indians of the Santa Ynez Reservation, California.

Representatives of any other Indian tribe that believes itself to be culturally affiliated with the human remains and associated funerary objects should contact Russell E. Galipeau Jr., superintendent, Channel Islands National Park, 1901 Spinnaker Drive, Ventura, CA 93001, telephone (805) 658-5700, before March 26, 2008. Repatriation of the human remains and associated funerary objects to the Santa Ynez Band of Chumash Mission Indians of the Santa Ynez Reservation, California may proceed after that date if no additional claimants come forward.

Channel Islands National Park is responsible for notifying Santa Ynez Band of Chumash Mission Indians of the Santa Ynez Reservation, California that this notice has been published.

Dated: January 24, 2008
Sherry Hutt,
Manager, National NAGPRA Program.

[FR Doc. E8-3449 Filed 2-22-08; 8:45 am]

BILLING CODE 4312-50-S